COMMITTEE FOR PURCHASE FROM PEOPLE WHO ARE BLIND OR SEVERELY DISABLED

Procurement List Additions and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes products from the Procurement List previously furnished by such agencies.

DATES: Effective Date: 9/2/2013

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 5/31/2013 (78 FR 32631-32632); 6/7/2013 (78 FR 34350-34351); and 6/21/2013 (78 FR 37524-37525), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

Aircraft Floor Board Kits

NSN: 1560-00-NIB-0001—KC-135 Floor Board Kit, 848 sq ft.

NSN: 1560-00-NIB-0002—KC-135 Floor Board Kit, 849 sq ft.

NSN: 1560-00-NIB-0003—KC-135 Floor Board Kit, 875 sq ft.

NSN: 1560-00-NIB-0004—KC-135 Floor Board Kit, 876 sq ft.

NPA: San Antonio Lighthouse for the Blind, San Antonio, TX

Contracting Activity: Dept of the Air Force, FA8126 AFSC PZIMB, Tinker Air Force Base, OK

Coverage: C-List for 100% of the requirement of Tinker Air Force Base as aggregated by the Oklahoma City Air Logistics Center (FA8126 AFSC PZIMB), Tinker Air Force Base, OK.

Services

Service Type/Location: Janitorial/Custodial Service, Drug Enforcement Agency (DEA) Aviation Facility, 2300 Horizon Drive, Fort Worth, TX.

NPA: Crossroads Diversified Service, Inc., Sacramento, CA

Contracting Activity: Dept of Justice, Headquarters-Drug Enforcement Administration, Arlington, VA

Service Type/Location: Grounds and Tree Maintenance Service, National Oceanic and Atmospheric Administration, Daniel K. Inouye Regional Center, 1876 Wasp Blvd., Honolulu, HI.

NPA: Lanakila Pacific, Honolulu, HI

Contracting Activity: Dept of Commerce, National Oceanic and Atmospheric Administration, Seattle, WA

Service Type/Location: Janitorial/Custodial Service, Missouri River Area Office, 790 E. Highway 224, Napoleon, MO.

NPA: Cooperative Workshops, Inc., Sedalia, MO

Contracting Activity: Dept of the Army, W071 ENDIST Kansas City, Kansas City, MO

Deletions

On 5/31/2013 (78 FR 32631-32632); 6/7/2013 (78 FR 34350-34351); and 6/21/2013 (78 FR 37524-37525), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 USC 8501-8506) in connection with the products deleted from the Procurement List.

End of Certification

Accordingly, the following products are deleted from the Procurement List:

Products

Yardstick

NSN: 5210-00-243-3349

NPA: Northeastern Michigan Rehabilitation and Opportunity Center (NEMROC), Alpena, MI

Contracting Activity: General Services Administration, Kansas City, MO

Scarf, Headover

NSN: 8440-01-291-5451

NPA: ASPIRO, Inc., Green Bay, WI

Contracting Activity: Defense Logistics Agency Troop Support, Philadelphia, PA

Scouring Powder

NSN: 7930-01-294-1115

NPA: NONE

Contracting Activity: General Services Administration, Fort Worth, TX

Socks and Gloves, Chemical Protective

NSN: 8415-01-509-2875—Socks, CPU, Army, Gray, XSS

NSN: 8415-01-509-2877—Socks, CPU, Army, Gray, S

NSN: 8415-01-509-2879—Socks, CPU, Army, Gray, M

NSN: 8415-01-509-2882—Socks, CPU, Army, Gray, L

NSN: 8415-01-509-2883—Socks, CPU, Army, Gray, XL

NSN: 8415-01-509-2898—Gloves, CPU, Army, Gray, XS

NSN: 8415-01-509-2902—Gloves, CPU, Army, Gray, S

NSN: 8415-01-509-2904—Gloves, CPU, Army, Gray, M

NSN: 8415-01-509-2905—Gloves, CPU, Army, Gray, L

NSN: 8415-01-509-2916—Gloves, CPU, Army, Gray, XL

NPA: Industrial Opportunities, Inc., Andrews, NC

Contracting Activity: Defense Logistics Agency Troop Support, Philadelphia, PA

Test Set, Lead

NSN: 6625-01-121-0510

NSN: 6625-00-395-9313

NPA: Elwyn, Inc., Aston, PA

Contracting Activity: Defense Logistics Agency Land and Maritime, Columbus, OH

Ribbon, Typewriter

NSN: 7510-01-219-2309

NPA: Charleston Vocational Rehabilitation Center, North Charleston, SC

Contracting Activity: General Services Administration, New York, NY

Barry S. Lineback,
Director, Business Operations.

[FR Doc. 2013-18650 Filed 8-1-13; 8:45 am]

BILLING CODE 6353-01-P